DEPARTMENT OF HEALTH AND HUMAN SERVICES

Administration for Children and Families

Proposed Information Collection Activity; Comment Request

Proposed Projects

Title: Implementation of Promoting Safe and Stable Families by Indian Tribes.

OMB No.: New Collection.

Description: The purpose of this study is to examine the ways in which Indian Tribes used funds they received under title IV-B, subpart 2 to provide services that strengthen families' abilities to care for their children. Additionally, a broad range of related child welfare issues with respect to Indian Tribes will be explored. Consistent with this approach, the research framework for this study documents and analyzes a full range of implementation issues for Promoting Safe and Stable Families (PSSF)—planning; accomplishments and changes; organization and infrastructure; related services and practices; and resource uses and allocation—over time and across the various stakeholders involved. This study also provides a historical perspective on Tribal implementation of the PSSF legislation including recent emphasis on strengthening parental relationships and promoting healthy marriages.

Respondents: Tribal Leaders, Program Managers for title IV B subpart 1 and 2 and Front Line Workers for title IV B subpart 1 and 2, Child Welfare/Human Service Collaborators, Funding Officials, and Court Officials.

Annual Burden Estimates
Instrument | Number of respondents | Number of responses per respondent | Average burden hours per response | Total burden hours
Tribal Leaders | 40 | 1 | 1 | 40
Program Managers and Front Line Workers | 120 | 1 | 1 | 120
Funding Officials | 20 | 1 | 1 | 20
Child Welfare/Human Service Collaborators | 60 | 1 | 1 | 60
Court Officials | 20 | 1 | 1 | 20

Estimated Total Annual Burden Hours: 260.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 26, 2002.
Bob Sargis,
Reports Clearance, Officer.

[FR Doc. 02-7907 Filed 4-1-02; 8:45 am]

BILLING CODE 4184-01-M